DEPARTMENT OF COMMERCE

National Oceanic and Atmospheric Administration

RIN 0648-XG254

New England Fishery Management Council; Public Meetings

AGENCY: National Marine Fisheries Service (NMFS), National Oceanic and Atmospheric Administration (NOAA), Commerce.

ACTION: Notice of a public meeting.

SUMMARY: The New England Fishery Management Council (Council, NEFMC) will hold a three-day meeting to consider actions affecting New England fisheries in the exclusive economic zone (EEZ).

DATES: The meeting will be held on Tuesday, June 12 through Thursday, June 14, 2018, beginning at 9 a.m. on June 12, 8:30 a.m. on June 13, and 8:30 a.m. on June 14.

ADDRESSES: The meeting will be held at the Holiday Inn by the Bay, 88 Spring Street, Portland, ME 04101; telephone: (207) 775-2311; online at www.innbythebay.com.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, June 12, 2018

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, representatives from NOAA General Counsel and the Office of Law Enforcement, and staff from the Atlantic States Marine Fisheries Commission and U.S. Coast Guard. Next, the Council will hear from its Skate Committee. The Council is expected to take final action on Framework Adjustment 6 to the Northeast Skate Complex Fishery Management Plan (FMP), which was developed to consider alternatives for prolonging the skate wing fishery. The Council then will discuss the Council Program Review Panel's final report and potentially take action on next steps to improve operations based on the panel's recommendations. The Observer Policy/Industry-Funded Monitoring Committee will be up next. The Council will consider and potentially adopt the committee's comments on NMFS's draft policy directive for allocating costs in electronic monitoring programs for federally managed U.S. fisheries.

After the lunch break, members of the public will have the opportunity to speak during an open comment period on issues that relate to Council business but are not included on the published agenda for this meeting. The Council asks the public to limit remarks to 3-5 minutes. Following public comment, the Atlantic Herring Committee will provide a report on two items. First, the committee will discuss and present its recommendation on whether or not river herring and shad should be added as stocks in the Atlantic herring fishery. The Council may take action based on the committee's advice. Next, the Council will receive an initial overview of the 2019-2021 specifications process. The Council also may consider options for mitigating impacts of potentially lower catch limits through appropriate adjustments authorized by the Magnuson-Stevens Fishery Conservation and Management Act. The Council then will adjourn for the day. Immediately thereafter and in the same room, the Council will conduct a public hearing on Amendment 8 to the Atlantic Herring FMP, which proposes alternatives to: (1) Establish an acceptable biological catch (ABC) control rule for Atlantic herring; and (2) address potential localized depletion and user conflicts in the fishery.

Wednesday, June 13, 2018

The second day of the meeting will begin with a report on NMFS's Fisheries Allocation Policy Directive and two associated Procedural Directives. The Council will discuss these directives for reviewing fisheries allocations, which include identifying “triggers” to initiate an allocation review. Next, the Council will receive an update from NEFSC staff on the Northeast Fisheries Observer Program and the 2018 fishing year sea day schedule. The Groundfish Committee report will follow. The Council will initiate Framework Adjustment 58 to the Northeast Multispecies FMP, which will include: (1) 2019 Total allowable catches for U.S./Canada stocks of Eastern Georges Bank (GB) cod, Eastern GB haddock, and GB yellowtail flounder; (2) rebuilding plans for several groundfish stocks; and (3) other measures. Groundfish Monitoring Amendment 23 will be taken up next. The Council will view video footage of electronic monitoring in operation on fishing vessels. It then will receive an update on the potential range of alternatives in the amendment, which is being developed to improve the overall catch and discard monitoring program in the Northeast multispecies fishery. The Council may select the range of alternatives for further analysis at this meeting. The Council also will receive a progress report from its Fishery Dependent Data Working Group

Following a lunch break, the Council will continue with and conclude its work on the groundfish items. Then, the Council will receive a short update on the Research Set-Aside (RSA) Program Review Panel Report, which is being prepared by representatives from the Council, GARFO, and NEFSC. Next, the Scallop Committee will provide a list of recommended 2019-2020 scallop RSA priorities. The Council will discuss and approve a final list of research priorities for the program. The Scallop Committee also will provide an initial overview of the 2019-2020 scallop specifications process. In its final item of business before adjourning for the day, the Council will finalize the list of proposals being prepared for NMFS to address regulatory reform as mandated by Executive Orders 13777, 13771, and 13565.

Thursday, June 14, 2018

The third day of the meeting will begin with Ecosystem-Based Fishery Management (EBFM). The Council will receive a summary report on the Center for Independent Experts EBFM Strategy Review from the peer review panel chair. The Council also will receive an update on future EBFM Committee activities. The Habitat Committee will be up next with two items. First will be the Clam Dredge Framework, which is being developed to consider continued surfclam dredge fishery access to the new Great South Channel Habitat Management Area and possible consideration of a mussel dredge exemption. The Council is expected to select the framework's range of alternatives for further analysis at this meeting. The Council also will receive an update on ongoing offshore energy activities in the Northeast and discuss any needed consultations with federal agencies. After that, the Council will receive an update on efforts by the Northeast Regional Coordinating Council to improve timing and scheduling of stock assessments and stock assessment research. The Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: May 17, 2018.
Rey Israel Marquez,
Acting Deputy Director, Office of Sustainable Fisheries, National Marine Fisheries Service.

[FR Doc. 2018-10896 Filed 5-21-18; 8:45 am]

BILLING CODE 3510-22-P